DEPARTMENT OF ENERGY

Federal Energy Regulatory Commission

[Docket No. RP12-908-000]

TC Offshore, LLC; Notice Establishing Deadline for Comments

On August 29, 2012, TC Offshore, LLC (TC Offshore) filed a response to the Commission's August 16, 2012 Data Request in the captioned proceedings.

Notice is hereby given that participants in the captioned proceedings may file comments to TC Offshsore's Data Response on or before 5:00 p.m. Eastern time on Wednesday, September 6, 2012.

Dated: August 29, 2012.
Kimberly D. Bose,
Secretary.

[FR Doc. 2012-21909 Filed 9-5-12; 8:45 am]

BILLING CODE 6717-01-P